DEPARTMENT OF COMMERCE

National Oceanic and Atmospheric Administration

RIN 0648-XE463

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application contains all of the required information and warrants further consideration. This Exempted Fishing Permit would exempt commercial fishing vessels from Atlantic sea scallop regulations in support of research conducted by the Coonamessett Farm Foundation. Regulations under the Magnuson-Stevens Fishery Conservation and Management Act require publication of this notification to provide interested parties the opportunity to comment on applications for proposed Exempted Fishing Permits.

DATES: Comments must be received on or before March 10, 2016.

ADDRESSES: You may submit written comments by any of the following methods:

• Email: nmfs.gar.efp@noaa.gov. Include in the subject line “DA15-084 CFF Resource Enhancement Study EFP.”

• Mail: John K. Bullard, Regional Administrator, NMFS, Greater Atlantic Regional Fisheries Office, 55 Great Republic Drive, Gloucester, MA 01930. Mark the outside of the envelope “Comments on DA15-030 CFF Resource Enhancement Study EFP.”

• Fax: (978) 281-9135.

FOR FURTHER INFORMATION CONTACT: Shannah Jaburek, Fisheries Management Specialist, 978-282-8456.

SUPPLEMENTARY INFORMATION: NOAA Fisheries awarded the Coonamesset Farm Foundation (CFF) a grant through the 2015 Atlantic sea scallop research set-aside (RSA) program, in support of a project titled, “Habitat Characterization and Sea Scallop Resource Enhancement Study in a Proposed Habitat Research Area-Year Three.” CFF has also submitted a proposal for a project of similar design for consideration under the 2016 Atlantic sea scallop RSA program titled “Drivers of Dispersal and Retention in Recently Seeded Sea Scallops.” Final project selections for the 2016 scallop RSA program are still to be determined and grant funding is expected sometime in March 2016. CFF submitted a complete application for an EFP for both projects on November 12, 2015. The main objectives for these projects are:

1. Perform a seeding operation and monitor environmental conditions before and after seeding;

2. Test a new cost-effective technique for marking and tracking seed scallops by size class;

3. Monitor transplanted scallops using an autonomous underwater vehicle (AUV) to quantify scallop and predator densities, dispersal rates, and survival; and

4. Investigate the different seedbed characteristics to provide insight into factors behind transplant success or failure.

Each project would transplant scallops from areas of high concentration to areas of lower concentration that were historically known to have high scallop densities, to demonstrate the feasibility of a reseeding program to enhance and stabilize scallop recruitment on Georges Bank. The Exempted Fishing Permit would exempt participating vessels from Atlantic sea scallop days-at-sea allocations at 50 CFR 648.53(b); crew size restrictions at § 648.51(c); Atlantic sea scallop observer program requirements at § 648.11(g); and closed area exemptions for Nantucket Lightship at § 648.58(c). It would also exempt participating vessels from the access area program requirements at § 648.60(a)(4), which would allow them to transit in and out of the access areas from the open area, as well as from the 50 bushel in-shell scallop possession limit outside of an access area found at § 648.52(f). Finally the Exempted Fishing Permit would exempt vessels from possession limits and minimum fish size requirements specified in 50 CFR part 648, subsections B and D through O, for sampling purposes and to retain any yellowtail flounder showing signs of disease for further shore side analysis.

Three dredging trips would collect and transplant roughly 10,000 to 15,000 scallops. One trip would support the 2015 project and two trips would support the proposed 2016 project. Dredging trips would be conducted utilizing a single vessel starting in March 2016 for the 2015 project, and April through May 2016 for the 2016 project if funded. The juvenile scallops would be harvested from the southeast portion of Nantucket Lightship Access Area (NLAA) to suitable sites in an alternate area of NLAA or a suitable site on Cox's Ledge. The projects define a suitable site as having currents less than 3 knots (~1 m/s) and large areas of coarse substrate preferred by scallops.

The vessel would tow two standard 15-foot (4.57-meter) wide dredges with a 4-inch (10.16-cm) ring bag for up to 10 minutes at 4.5 knots. To harvest all of the scallops, the applicant estimates they would need to complete approximately 25 tows. Once the catch is on deck, the scallops would be sorted by size class, marked with an appropriately colored reflective tape to aid with post-seeding monitoring, and stored in fish totes with a chilled seawater flow through system. All harvesting and tagging would occur during nighttime hours to reduce stress on the scallops. Once the vessel reaches the reseeding site, the vessel would anchor up to allow for a controlled placement, and researchers will lower the scallops to the ocean bottom for a targeted density of two scallops per square meter. A bottom marker would also be released with each scallop placement to locate the original site enabling researchers to note any scallop movement.

One bushel from each tow would be measured for size frequency and 15 individual scallops would be sampled for meat weights to determine shell height/meat weight ratios prior to transplanting. Any finfish caught in the dredge that show signs of abnormalities would have a small biopsy of the area removed and preserved in a vial with formalin and the carcass would be placed in a ziplock bag and stored on ice. Researchers would continue gathering information on the prevalence of the disease Ichthyophonus seen locally in yellowtail flounder. Anticipated bycatch for both projects is listed in the table below.

Species | Minimum bycatch: (lb) | Minimum bycatch: (kg) | Maximum bycatch: (lb) | Maximum bycatch: (kg)
Scallop | 12,000 | 5,443 | 15,075 | 6,838
Yellowtail Flounder | 140 | 64 | 450 | 204
Winter Flounder | 20 | 9 | 225 | 102
Windowpane Flounder | 120 | 54 | 450 | 204
Monkfish | 500 | 227 | 1,575 | 714
Other Fish | 220 | 100 | 450 | 204
Barndoor Skate | 20 | 9 | 675 | 306
NE Skate Complex | 7,740 | 3,510 | 12,825 | 5,817

In addition to trips that will harvest and place seed scallops, there will be five trips dedicated to conducting optical surveys of the research area; two trips to determine seed placement locations, and three trips to monitor the seeding effort. Researchers would conduct each initial optical survey over the course of a day and the post seed optical surveys over seven days. The post seeding surveys would start immediately after scallop placement, and recur at each site once a day. To collect data at each of the sites, researchers would use a GAVIA AUV, and a video sled comprised of a 9.84-foot (3-m) wide beam outfitted with a battery operated camera and strobe system. The only contact with the ocean bottom would be with three 3-inch (7.62-cm) wide runners attached to the bottom of the beam. No exemptions are needed for the optical survey trips.

Regulatory exemptions are needed to allow CFF to collect scallops from a closed access area and reseed them in an open area, and without being charged days-at-sea. Exemptions are also needed to deploy dredge gear in closed access areas and retain yellowtail flounder for scientific purposes. Participating vessels need crew size waivers to accommodate science personnel and possession waivers will enable them to conduct data collection activities. We would waive the observer program notification requirements because the research activity is not representative of standard fishing activity.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: February 18, 2016.
Alan D. Risenhoover,
Director, Office of Sustainable Fisheries, National Marine Fisheries Service.

[FR Doc. 2016-03760 Filed 2-23-16; 8:45 am]

BILLING CODE 3510-22-P